DEPARTMENT OF LABOR

Office of the Secretary

Submission for OMB Review; Comment Request

April 5, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ESA, and PWBA contact Marlene Howze ((202) 693-4120 or by email to Howze-Marlene@dol.gov). To obtain documentation for ETA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: ERISA Technical Release 91-1; Transfer of Excess Assets From a Defined Benefit Plan to a Retiree Health Benefits Account.

OMB Number: 1210-0084.

Affected Public: Individuals or households; business or other for-profit; and not-for-profit institutions.

Frequency: On occasion.

Number of Respondents: 66.

Number of Annual Responses: 66.

Estimated Time Per Response: 1.7 minutes.

Total Burden Hours: 5,775.

Total Annualized Capital/Startup Costs: $0.

Total Annual Costs (operating/maintaining systems or purchasing services): $90,950.

Description: Section 101(e) of the Employee Retirement Income Security Act of 1974 (ERISA) sets forth certain notice requirements which must be satisfied before an employer may transfer excess assets from a defined benefit plan to a retiree health benefit account as otherwise permissible after satisfying the conditions set forth in section 420 of the Internal Revenue Code of 1986, as amended (Code). Section 101(e) describes the plan administrator's obligation to provide advance written notification of such transfers to participants and beneficiaries and the employer's obligation to provide advance written notification to the Secretaries of Labor and the Treasury, the plan administrator, and each employee organization representing participants in the plan. ERISA Technical Release 91-1 provides guidance on the information to be provided in the notices to both the participants and beneficiaries and to the Secretaries.

Ira L. Mills,
Departmental Clearance Officer.

[FR Doc. 01-9279 Filed 4-13-01; 8:45 am]

BILLING CODE 4510-29-M